DEPARTMENT OF HOMELAND SECURITY

Federal Emergency Management Agency

44 CFR Part 64

[Docket ID FEMA-2010-0003; Internal Agency Docket No. FEMA-8125]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
New Hampshire:
Allenstown, Town of, Merrimack County | 330103 | September 3, 1975, Emerg; April 2, 1979, Reg; April 19, 2010, Susp. | 4/19/2010 | 4/19/2010
Andover, Town of, Merrimack County | 330104 | May 12, 1976, Emerg; April 2, 1986, Reg; April 19, 2010, Susp. | ......do | Do.
Boscawen, Town of, Merrimack County | 330105 | October 14, 1976, Emerg; July 16, 1979, Reg; April 19, 2010, Susp. | ......do | Do.
Bow, Town of, Merrimack County | 330107 | June 18, 1975, Emerg; April 16, 1979, Reg; April 19, 2010, Susp. | ......do | Do.
Bradford, Town of, Merrimack County | 330106 | August 12, 1975, Emerg; April 15, 1992, Reg; April 19, 2010, Susp. | ......do | Do.
Canterbury, Town of, Merrimack County | 330108 | June 10, 1975, Emerg; May 15 1979, Reg; April 19, 2010, Susp. | ......do | Do.
Chichester, Town of, Merrimack County | 330109 | N/A, Emerg; May 14, 2004, Reg; April 19, 2010, Susp. | ......do | Do.
Concord, City of, Merrimack County | 330110 | July 17, 1974, Emerg; March 4, 1980, Reg; April 19, 2010, Susp. | ......do | Do.
Danbury, Town of, Merrimack County | 330111 | April 23, 2001, Emerg; January 1, 2003, Reg; April 19, 2010, Susp. | ......do | Do.
Dunbarton, Town of, Merrimack County | 330202 | May 1, 2000, Emerg; March 28, 2001, Reg; April 19, 2010, Susp. | ......do | Do.
Epsom, Town of, Merrimack County | 330112 | November 11, 1976, Emerg; July 3, 1978, Reg; April 19, 2010, Susp. | ......do | Do.
Franklin, City of, Merrimack County | 330113 | July 21, 1975, Emerg; September 28, 1979, Reg; April 19, 2010, Susp. | ......do | Do.
Henniker, Town of, Merrimack County | 330114 | March 14, 1979, Emerg; March 14, 1979, Reg; April 19, 2010, Susp. | ......do | Do.
Hill, Town of, Merrimack County | 330214 | November 29, 1976, Emerg; April 2, 1986, Reg; April 19, 2010, Susp. | ......do | Do.
Hooksett, Town of, Merrimack County | 330115 | November 10, 1975, Emerg; April 2, 1979, Reg; April 19, 2010, Susp. | ......do | Do.
Hopkinton, Town of, Merrimack County | 330116 | June 27, 1975, Emerg; May 17, 1988, Reg; April 19, 2010, Susp. | ......do | Do.
Loudon, Town of, Merrimack County | 330117 | April 2, 2004, Emerg; August 1, 2004, Reg; April 19, 2010, Susp. | ......do | Do.
New London, Town of, Merrimack County | 330230 | November 17, 1975, Emerg; July 16, 1991, Reg; April 19, 2010, Susp. | ......do | Do.
Newbury, Town of, Merrimack County | 330226 | August 17, 1976, Emerg; April 2, 1986, Reg; April 19, 2010, Susp. | ......do | Do.
Northfield, Town of, Merrimack County | 330118 | October 14, 1975, Emerg; June 15, 1979, Reg; April 19, 2010, Susp. | ......do | Do.
Pembroke, Town of, Merrimack County | 330119 | July 24, 1975, Emerg; April 2, 1979, Reg; April 19, 2010, Susp. | ......do | Do.
Pittsfield, Town of, Merrimack County | 330120 | January 27, 1976, Emerg; July 3, 1978, Reg; April 19, 2010, Susp. | ......do | Do.
Salisbury, Town of, Merrimack County | 330121 | June 8, 1976, Emerg; April 15, 1986, Reg; April 19, 2010, Susp. | ......do | Do.
Sutton, Town of, Merrimack County | 330122 | March 1, 1976, Emerg; May 17, 1977, Reg; April 19, 2010, Susp. | ......do | Do.
Warner, Town of, Merrimack County | 330123 | August 11, 1975, Emerg; June 4, 1987, Reg; April 19, 2010, Susp. | ......do | Do.
Webster, Town of, Merrimack County | 330236 | February 25, 1976, Emerg; April 15, 1986, Reg; April 19, 2010, Susp. | ......do | Do.
Wilmot, Town of, Merrimack County | 330124 | May 29, 1984, Emerg; April 1, 1986, Reg; April 19, 2010, Susp. | ......do | Do.
Region III
West Virginia:
Bethany, Town of, Brooke County | 540012 | July 16, 1975, Emerg; September 28, 1979, Reg; April 19, 2010, Susp. | ......do | Do.
Braxton County, Unincorporated Areas | 540009 | December 29, 1975, Emerg; March 18, 1991, Reg; April 19, 2010, Susp. | ......do | Do.
Brooke County, Unincorporated Areas | 540011 | October 28, 1975, Emerg; December 15, 1983, Reg; April 19, 2010, Susp. | ......do | Do.
Chester, City of, Hancock County | 540048 | June 23, 1975, Emerg; December 1, 1982, Reg; April 19, 2010, Susp. | ......do | Do.
Flatwoods, Town of, Braxton County | 540235 | July 3, 1975, Emerg; September 29, 1978, Reg; April 19, 2010, Susp. | ......do | Do.
Follansbee, City of, Brooke County | 540013 | July 16, 1975, Emerg; September 30, 1982, Reg; April 19, 2010, Susp. | ......do | Do.
Gassaway, Town of, Braxton County | 540237 | March 21, 1975, Emerg; September 10, 1984, Reg; April 19, 2010, Susp. | ......do | Do.
Hancock County, Unincorporated Areas | 540047 | August 21, 1975, Emerg; June 15, 1984, Reg; April 19, 2010, Susp. | ......do | Do.
Jane Lew, Town of, Lewis County | 540086 | March 7, 1975, Emerg; September 24, 1984, Reg; April 19, 2010, Susp. | ......do | Do.
Lewis County, Unincorporated Areas | 540085 | January 25, 1977, Emerg; July 1, 1987, Reg; April 19, 2010, Susp. | ......do | Do.
New Cumberland, City of, Hancock County | 540049 | May 21, 1975, Emerg; May 15, 1980, Reg; April 19, 2010, Susp. | ......do | Do.
Sutton, Town of, Braxton County | 540236 | June 5, 1975, Emerg; September 10, 1984, Reg; April 19, 2010, Susp. | ......do | Do.
Weirton, City of, Brooke and Hancock Counties | 540014 | March 20, 1975, Emerg; September 28, 1979, Reg; April 19, 2010, Susp. | ......do | Do.
Wellsburg, City of, Brooke County | 540015 | December 18, 1974, Emerg; November 17, 1982, Reg; April 19, 2010, Susp. | ......do | Do.
Weston, City of, Lewis County | 540087 | November 1, 1974, Emerg; April 15, 1982, Reg; April 19, 2010, Susp. | ......do | Do.
Region IV
Alabama:
Pine Hill, Town of, Wilcox County | 010397 | June 6, 2005, Emerg; April 19, 2010, Reg; April 19, 2010, Susp. | ......do | Do.
Wilcox County, Unincorporated Areas | 010327 | February 21, 1979, Emerg; May 1, 1987, Reg; April 19, 2010, Susp. | ......do | Do.
Mississippi:
Claiborne County, Unincorporated Areas | 280201 | February 14, 1974, Emerg; May 1, 1978, Reg; April 19, 2010, Susp. | ......do | Do.
Crosby, Town of, Wilkinson County | 280003 | December 17, 1974, Emerg; February 1, 1986, Reg; April 19, 2010, Susp. | ......do | Do.
Port Gibson, Town of, Claiborne County | 280033 | April 16, 1975, Emerg; June 15, 1978, Reg; April 19, 2010, Susp. | ......do | Do.
Wilkinson County, Unincorporated Areas | 280202 | February 15, 1974, Emerg; July 16, 1990, Reg; April 19, 2010, Susp. | ......do | Do.
North Carolina:
Bryson City, Town of, Swain County | 370228 | March 25, 1975, Emerg; December 4, 1984, Reg; April 19, 2010, Susp. | ......do | Do.
Dillsboro, Town of, Jackson County | 370136 | July 23, 1975, Emerg; May 15, 1986, Reg; April 19, 2010, Susp. | ......do | Do.
Eastern Band of Cherokee Indians, Cherokee, Graham, Haywood, Jackson, and Swain Counties | 370401 | May 4, 1977, Emerg; May 17, 1989, Reg; April 19, 2010, Susp. | ......do | Do.
Jackson County, Unincorporated Areas | 370282 | August 5, 1975, Emerg; May 17, 1989, Reg; April 19, 2010, Susp. | ......do | Do.
Sylva, Town of, Jackson County | 370137 | July 28, 1975, Emerg; July 3, 1986, Reg; April 19, 2010, Susp. | ......do | Do.
Swain County, Unincorporated Areas | 370227 | February 3, 1980, Emerg; July 17, 1986, Reg; April 19, 2010, Susp. | ......do | Do.
Webster, Town of, Jackson County | 370281 | December 29, 2005, Emerg; April 19, 2010, Reg; April 19, 2010, Susp. | ......do | Do.
Tennessee:
Alexandria, City of, Dekalb County | 470042 | May 23, 1975, Emerg; June 17, 1986, Reg; April 19, 2010, Susp. | ......do | Do.
Decatur County, Unincorporated Areas | 470041 | December 2, 1985, Emerg; September 1, 1987, Reg; April 19, 2010, Susp. | ......do | Do.
Dowelltown, City of, Dekalb County | 470043 | May 22, 1975, Emerg; August 19, 1986, Reg; April 19, 2010, Susp. | ......do | Do.
Jackson County, Unincorporated Areas | 470370 | November 26, 1982, Emerg; September 4, 1985, Reg; April 19, 2010, Susp. | ......do | Do.
Liberty, City of, Dekalb County | 470044 | May 23, 1975, Emerg; September 4, 1986, Reg; April 19, 2010, Susp. | ......do | Do.
Parsons, Town of, Decatur County | 470316 | April 28, 1992, Emerg; November 1, 2006, Reg; April 19, 2010, Susp. | ......do | Do.
Van Buren County, Unincorporated Areas | 470342 | July 14, 2005, Emerg; June 1, 2008, Reg; April 19, 2010, Susp. | ......do | Do.
Region V
Illinois:
Alexis, Village of, Mercer and Warren Counties | 170674 | May 9, 1975, Emerg; July 2, 1987, Reg; April 19, 2010, Susp. | ......do | Do.
Keithsburg, City of, Mercer County | 170508 | May 23, 1975, Emerg; September 15, 1983, Reg; April 19, 2010, Susp. | ......do | Do.
Mercer County, Unincorporated Areas | 170806 | April 8, 1974, Emerg; January 3, 1986, Reg; April 19, 2010, Susp. | ......do | Do.
Reynolds, Village of, Mercer and Rock Island Counties | 170883 | March 24, 1998, Emerg; October 18, 2002, Reg; April 19, 2010, Susp. | ......do | Do.
Seaton, Village of, Mercer County | 170881 | August 13, 1975, Emerg; August 19, 1985, Reg; April 19, 2010, Susp. | ......do | Do.
Michigan:
Algansee, Township of, Branch County | 260994 | June 19, 1997, Emerg; April 19, 2010, Reg; April 19, 2010, Susp. | ......do | Do.
Coldwater, City of, Branch County | 260813 | February 10, 1989, Emerg; August 16, 1996, Reg; April 19, 2010, Susp. | ......do | Do.
Coldwater, Township of, Branch County | 260826 | September 26, 1989, Emerg; August 16, 1996, Reg; April 19, 2010, Susp. | ......do | Do.
Girard, Township of, Branch County | 261044 | January 16, 2001, Emerg; April 19, 2010, Reg; April 19, 2010, Susp. | ......do | Do.
Kinderhook, Township of, Branch County | 260361 | June 19, 1997, Emerg; April 19, 2010, Reg; April 19, 2010, Susp. | ......do | Do.
Matteson, Township of, Branch County | 260911 | December 21, 1993, Emerg; April 19, 2010, Reg; April 19, 2010, Susp. | ......do | Do.
Ovid, Township of, Branch County | 260362 | June 30, 1997, Emerg; April 19, 2010, Reg; April 19, 2010, Susp. | ......do | Do.
Quincy, Township of, Branch County | 260997 | July 25, 1997, Emerg; April 19, 2010, Reg; April 19, 2010, Susp. | ......do | Do.
Sherwood, Township of, Branch County | 261020 | April 2, 1998, Emerg; April 19, 2010, Reg; April 19, 2010, Susp. | ......do | Do.
Union, Township of, Branch County | 261016 | January 15, 1998, Emerg; April 19, 2010, Reg; April 19, 2010, Susp. | ......do | Do.
Wisconsin:
Beaver Dam, City of, Dodge County | 550095 | May 16, 1975, Emerg; April 3, 1984, Reg; April 19, 2010, Susp. | ......do | Do.
Brownsville, Village of, Dodge County | 550096 | April 2, 1975, Emerg; January 3, 1985, Reg; April 19, 2010, Susp. | ......do | Do.
Columbus, City of, Columbus and Dodge Counties | 550058 | October 7, 1974, Emerg; December 1, 1981, Reg; April 19, 2010, Susp. | ......do | Do.
Fox Lake, City of, Dodge County | 550097 | August 1, 1975, Emerg; March 16, 1981, Reg; April 19, 2010, Susp. | ......do | Do.
Hartford, City of, Dodge and Washington Counties | 550473 | April 17, 1975, Emerg; December 4, 1984, Reg; April 19, 2010, Susp. | ......do | Do.
Horicon, City of, Dodge County | 550098 | July 7, 1975, Emerg; August 15, 1980, Reg; April 19, 2010, Susp. | ......do | Do.
Hustisford, Village of, Dodge County | 550557 | July 25, 1975, Emerg; August 15, 1980, Reg; April 19, 2010, Susp. | ......do | Do.
Mayville, City of, Dodge County | 550103 | July 21, 1975, Emerg; June 1, 1981, Reg; April 19, 2010, Susp. | ......do | Do.
Neosho, Village of, Dodge County | 550104 | June 9, 1975, Emerg; June 15, 1988, Reg; April 19, 2010, Susp. | ......do | Do.
Theresa, Village of, Dodge County | 550106 | August 21, 1975, Emerg; July 16, 1980, Reg; April 19, 2010, Susp. | ......do | Do.
Watertown, City of, Dodge and Jefferson Counties | 550107 | May 23, 1975, Emerg; April 1, 1981, Reg; April 19, 2010, Susp. | ......do | Do.
Waupun, City of, Dodge and Fond du Lac Counties | 550108 | January 21, 1975, Emerg; August 15, 1984, Reg; April 19, 2010, Susp. | ......do | Do.
Region VI
Oklahoma:
Ardmore, City of, Carter County | 400031 | March 5, 1975, Emerg; January 6, 1982, Reg; April 19, 2010, Susp. | ......do | Do.
Gene Autry, Town of, Carter County | 400032 | September 30, 1999, Emerg; November 1, 2007, Reg; April 19, 2010, Susp. | ......do | Do.
Healdton, City of, Carter County | 400033 | September 2, 1975, Emerg; January 3, 1986, Reg; April 19, 2010, Susp. | ......do | Do.
Lone Grove, Town of, Carter County | 400395 | January 26, 1978, Emerg; March 16, 1989, Reg; April 19, 2010, Susp. | ......do | Do.
Wilson, City of, Carter County | 400035 | June 20, 1975, Emerg; July 3, 1985, Reg; April 19, 2010, Susp. | ......do | Do.
Texas:
La Grulla, City of, Starr County | 480576 | December 26, 1975, Emerg; January 3, 1986, Reg; April 19, 2010, Susp. | ......do | Do.
Rio Grande City, City of, Starr County | 481678 | N/A, Emerg; October 22, 1997, Reg; April 19, 2010, Susp. | ......do | Do.
Roma, City of, Starr County | 480577 | November 20, 1995, Emerg; November 1, 2007, Reg; April 19, 2010, Susp. | ......do | Do.
Starr County, Unincorporated Areas | 480575 | November 6, 1970, Emerg; July 1, 1987, Reg; April 19, 2010, Susp. | ......do | Do.
Region VII
Missouri:
Annada, Village of, Pike County | 290287 | August 17, 1979, Emerg; November 19, 1986, Reg; April 19, 2010, Susp. | ......do | Do.
Bowling Green, City of, Pike County | 290288 | February 12, 1974, Emerg; May 2, 1977, Reg; April 19, 2010, Susp. | ......do | Do.
Clarksville, City of, Pike County | 290289 | December 26, 1973, Emerg; April 1, 1977, Reg; April 19, 2010, Susp. | ......do | Do.
Louisiana, City of, Pike County | 290290 | February 1, 1974, Emerg; April 3, 1978, Reg; April 19, 2010, Susp. | ......do | Do.
Pike County, Unincorporated Areas | 290286 | April 29, 1981, Emerg; May 1, 1989, Reg; April 19, 2010, Susp. | ......do | Do.
Buffalo, City of, Dallas County | 290739 | N/A, Emerg; November 14, 2007, Reg; April 19, 2010, Susp. | ......do | Do.
Urbana, City of, Dallas County | 290514 | January 15, 2008, Emerg; April 19, 2010, Reg; April 19, 2010, Susp. | ......do | Do.
Nebraska:
Columbus, City of, Platte County | 315272 | May 21, 1971, Emerg; June 29, 1973, Reg; April 19, 2010, Susp. | ......do | Do.
Duncan, Village of, Platte County | 310272 | June 22, 1995, Emerg; October 1, 2001, Reg; April 19, 2010, Susp. | ......do | Do.
Lindsay, Village of, Platte County | 310177 | December 15, 1976, Emerg; September 4, 1987, Reg; April 19, 2010, Susp. | ......do | Do.
Platte Center, Village of, Platte County | 310178 | March 29, 1975, Emerg; January 30, 1990, Reg; April 19, 2010, Susp. | ......do | Do.
* do = Ditto.
Code for reading third column: Emerg.—Emergency; Reg.—Regular; Susp.—Suspension.

Dated: March 31, 2010.
Sandra K. Knight,
Deputy Federal Insurance and Mitigation Administrator, Mitigation, Department of Homeland Security, Federal Emergency Management Agency.

[FR Doc. 2010-8276 Filed 4-9-10; 8:45 am]

BILLING CODE 9110-12-P